DEPARTMENT OF THE INTERIOR

National Park Service

[NPS-WASO-D-COS-POL-30460; PPWODIREP0] [PPMPSAS1Y.YP0000]

Notice of the September 16-17, 2020, Meeting of the National Park System Advisory Board

AGENCY: National Park Service, Interior.

ACTION: Notice of meeting.

SUMMARY: In accordance with the Federal Advisory Committee Act of 1972, the National Park Service (NPS) is hereby giving notice that the National Park System Advisory Board (Board) will meet as noted below. The agenda will include the review of proposed actions regarding the National Historic Landmarks (NHL) Program and the National Natural Landmarks (NNL) Program. Interested parties are encouraged to submit written comments and recommendations that will be presented to the Board. Interested parties also may attend the board meeting and upon request may address the Board concerning an area's national significance.

DATES: On Wednesday, September 16, 2020, the meeting will convene at 1:00 p.m., and adjourn for the day at 5:00 p.m., Eastern Daylight Time. The meeting will reconvene on Thursday, September 17 at 9:00 a.m., and adjourn at 5:00 p.m. NHL and NNL matters will be presented on September 17. For instructions on registering to attend, submitting written material, or giving an oral presentation at the meeting, please see guidance under FOR FURTHER INFORMATION CONTACT.

ADDRESSES: The meeting will be conducted at the American Geophysical Union, 2000 Florida Avenue NW, Washington, DC 20036, telephone (202) 462-6900. A teleconference may substitute for an in-person meeting if public health restrictions are in effect. In the event of a switch to teleconference, notification and access information will be posted by September 9, 2020, to the Board's website at https://www.nps.gov/advisoryboard.htm.

FOR FURTHER INFORMATION CONTACT: (a) For information concerning attending the Board meeting or to request to address the Board, contact Joshua Winchell, Staff Director for the National Park System Advisory Board, Office of Policy, National Park Service, telephone (202) 513-7053, or email joshua_winchell@nps.gov. (b) To submit a written statement specific to, or request information about, any NHL matter listed below, or for information about the NHL Program or NHL designation process and the effects of designation, contact Sherry A. Frear, RLA, Chief, National Register of Historic Places and National Historic Landmarks Program, National Park Service, email sherry_frear@nps.gov. Written comments specific to any NHL matter listed below must be submitted by no later than September 15, 2020. (c) To submit a written statement specific to, or request information about, any NNL matter listed below, or for information about the NNL Program or NNL designation process and the effects of designation, contact Heather Eggleston, Manager, National Natural Landmarks Program, National Park Service, telephone 303-969-2945, email heather_eggleston@nps.gov. Written comments specific to any NNL matter listed below must be submitted by no later than September 15, 2020.

SUPPLEMENTARY INFORMATION: The Board has been established by authority of the Secretary of the Interior (Secretary) under 54 U.S.C. 100906, and is regulated by the Federal Advisory Committee Act.

The Board will receive briefings and discuss topics related to improving the visitor experience in NPS managed units and workforce planning for the next century, and consider proposed NHL and NNL actions. The final agenda and briefing materials will be posted to the Board's website prior to the meeting at https://www.nps.gov/advisoryboard.htm.

A. National Historic Landmarks (NHL) Program

NHL Program matters will be considered at the September 17 session of the meeting, during which the Board may consider the following:

Nominations for NHL Designation

Connecticut

• First Presbyterian Church, Stamford, CT

District of Columbia

• Pan American Union Headquarters, Washington, DC

Georgia

• Andalusia Farm (Flannery O'Connor Home), Milledgeville, GA

Massachusetts

• Western Railroad Stone Arch Bridges and Chester Factory Village Depot, Becket, Middlefield, and Chester, MA

Michigan

• Minong Copper Mining District, Isle Royale National Park, Keweenaw County, MI

Nebraska

• Scout's Rest Ranch Headquarters, North Platte, NE

New York

• Grant Cottage, Wilton, NY

• West Point Foundry Archeological Site, Cold Spring, NY

Texas

• Lower Pecos Canyonlands Archeological District, Val Verde County, TX

Virginia

• Patsy Cline House, Winchester, VA

• Stabler-Leadbeater Apothecary Shop, Alexandria, VA

Wisconsin

• Rock Island Site II, Rock Island State Park, Door County, WI

Proposed Amendments to Existing Designations

Connecticut

• Hill-Stead, Farmington, CT (updated documentation)

• Hawaii Kalaupapa Leprosy Settlement, Kalawao, HI (updated documentation)

Tennessee

• Hermitage Hotel, Nashville, TN (updated documentation)

B. National Natural Landmarks (NNL) Program

NNL Program matters will be considered at the September 17 session of the meeting, during which the Board may consider the following:

California

• Lanphere and Ma-le'l Dunes, Humbolt County, CA

Colorado

• Sulphur Cave and Spring, Routt County, CO

West Virginia

• Bear Rocks and Allegheny Front Preserve, Grant and Tucker Counties, WV

The meeting is open to the public. Interested persons may choose to make oral comments at the meeting during the designated time for this purpose. Depending on the number of people wishing to comment and the time available, the amount of time for oral comments may be limited. Interested parties should contact the Staff Director for the Board (see FOR FURTHER INFORMATION CONTACT), for advance placement on the public speaker list for this meeting. Members of the public may also choose to submit written comments by emailing them to joshua_winchell@nps.gov.

Public Disclosure of Comments: Before including your address, phone number, email address, or other personal identifying information in your comment, you should be aware that your entire comment—including your personal identifying information—may be made publicly available at any time. While you can ask us in your comment to withhold your personal identifying information from public review, we cannot guarantee that we will be able to do so.

Authority: 5 U.S.C. Appendix 2.

Alma Ripps,
Chief, Office of Policy.

[FR Doc. 2020-15120 Filed 7-13-20; 8:45 am]

BILLING CODE 4312-52-P